FEDERAL ELECTION COMMISSION

Sunshine Act Notices

DATE AND TIME: Thursday, May 15, 2003 at 10 a.m.

PLACE: 999 E Street, NW., Washington, DC (Ninth Floor).

STATUS: This meeting will be open to the public.

ITEMS TO BE DISCUSSED:

Correction and Approval of Minutes.

Draft Advisory Opinion 2003-07: Virginia Highlands Advancement Fund by Regina Cordle, Treasurer.

Administrative Matters.

FOR FURTHER INFORMATION CONTACT: Mr. Ron Harris, Press Officer, Telephone: (202) 694-1220.

Mary W. Dove,
Secretary of the Commission.

[FR Doc. 03-11892 Filed 5-8-03; 12:26 am]

BILLING CODE 6715-01-M